ENVIRONMENTAL PROTECTION AGENCY

[FRL OP-OFA-081]

Environmental Impact Statements; Notice of Availability

Responsible Agency: Office of Federal Activities, General Information 202-564-5632 or https://www.epa.gov/nepa.

Weekly receipt of Environmental Impact Statements (EIS)

Filed July 31, 2023 10 a.m. EST Through August 7, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230097, Draft Supplement, USACE, IL, City of Springfield Aquatic Recreation and Supplemental Water Supply Project Draft SEIS, Comment Period Ends: 09/25/2023, Contact: James C. Kelley 309-794-5373.

EIS No. 20230098, Draft, NPS, MT, Yellowstone National Park Bison Management Plan Draft Environmental Impact Statement, Comment Period Ends: 09/25/2023, Contact: Morgan Warthin, Public Affairs Specialist, Yellowstone National Park 307-344-2010.

EIS No. 20230099, Draft, BLM, UT, Grand Staircase Escalante National Monument Draft Resource Management Plan and Environmental Impact Statement, Comment Period Ends: 11/09/2023, Contact: Scott Whitesides 801-598-8669.

EIS No. 20230100, Final, NRCS, GA, Final Environmental Impact Statement and Supplemental Watershed Plan for Etowah River Watershed Dam No. 13-A, Review Period Ends: 09/11/2023, Contact: Eric Harris 706-546-2217.

EIS No. 20230101, Final Supplement, TVA, AL, Browns Ferry Nuclear Plant Subsequent License Renewal Project Supplemental Environmental Impact Statement, Review Period Ends: 09/11/2023, Contact: J. Taylor Johnson 423-751-2732.

Dated: August 7, 2023.
Cindy S. Barger,
Director, NEPA Compliance Division, Office of Federal Activities.

[FR Doc. 2023-17235 Filed 8-10-23; 8:45 am]

BILLING CODE 6560-50-P